DEPARTMENT OF HEALTH AND HUMAN SERVICES

Health Care Financing Administration

[Document Identifier: CMS-R-227]

Agency Information Collection Activities: Proposed Collection; Comment Request

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension of a currently approved collection; Title of Information Collection: Research and Analytic Support for Implementing Peformance Measurement in Medicare Fee for Service; Form No.: CMS-R-227 (OMB# 0938-0718); Use: As required by the Balanced Budget Act (BBA), Section 1851(d), the Health Care Financing Administration (HCFA) needs to develop comparable performance measures for Fee For Service (FFS) Medicare. This project will enable HCFA to evaluate the effectiveness and outcomes of FFS services purchased. HCFA may potentially disseminate this information to Medicare beneficiaires so that they may make informed health care choices; Frequency: Biannually; Affected Public: Individuals or households, business or other for-profit, not-for-profit institutions, farms, Federal Government, and State, Local or Tribal Government;

Number of Respondents: 6,670;

Total Annual Responses: 6,670;

Total Annual Hours: 2,223.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Information Technology Investment Management Group, Division of HCFA Enterprise Standards, Attention: Melissa Musotto, Room: N2-14-26, 7500 Security Boulevard, Baltimore, Maryland 21244-1850.

Julie Boughn,
Acting HCFA Reports Clearance Officer, HCFA Office of Information Services, Information Technology Investment Management Group, Division of HCFA Enterprise Standards.

[FR Doc. 01-19388 Filed 8-2-01; 8:45 am]

BILLING CODE 4120-03-U